DEPARTMENT OF AGRICULTURE

Submission for OMB Review; Comment Request

June 19, 2019.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 24, 2019 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of Technology Modernization for SNAP Benefit Redemption through Online Transactions.

OMB Control Number: 0584-NEW.

Summary of Collection: Section 4011 of the Agricultural Act of 2014 (The Farm Bill) mandated by Congress that the U.S. Department of Agriculture's Food and Nutrition Service (FNS) conduct an Electronic Benefits Transfer Online Purchasing Pilot (referred to in this document as the SNAP Online Purchasing Pilot) to test the feasibility and implications of allowing retail food stores to accept Supplemental Nutrition Assistance Program (SNAP) benefits through online transactions. The Farm Bill provided FNS and its stakeholders an opportunity to begin modernizing benefit redemption through online purchasing for SNAP.

Need and Use of the Information: FNS seeks to learn how the seven retailer pilots operate, the implementation challenges and lessons learned, the characteristics of SNAP online customers, the risks and benefits of online purchasing for the integrity of SNAP, and the requirements for expansion. The results of this evaluation will inform FNS' decisions about how to make SNAP online purchases more widely available, how to ensure the accessibility and quality of online purchases, and how to ensure that protections against abuse remain strong or grow stronger. Ultimately, the findings from this evaluation will help FNS in setting new requirements, policies, and procedures for authorization of online retailers.

Description of Respondents: State, Local or Tribal Government; Business-for-not-for-profit.

Number of Respondents: 57,000.

Frequency of Responses: Reporting.

Total Burden Hours: 12,004.

Ruth Brown,
Departmental Information Collection Clearance Officer.

[FR Doc. 2019-13357 Filed 6-21-19; 8:45 am]

BILLING CODE 3410-30-P